Proclamation 7899 of May 10, 2005

National Hurricane Preparedness Week, 2005

By the President of the United States of America

A Proclamation

Each year from June through November, Americans living on the Eastern seaboard and along the Gulf of Mexico face an increased threat of hurricanes. These powerful storms can create severe flooding, cause power outages, and damage homes and businesses with their high winds, tornadoes, storm surges, and heavy rainfall. The effects of these storms can be devastating to families and cause lasting economic distress. During National Hurricane Preparedness Week, we call attention to the importance of planning ahead and securing our homes and property in advance of storms.

Last year, six hurricanes and three tropical storms hit the United States, causing the loss of dozens of lives and billions of dollars in damage. Across the United States, Americans responded to these natural disasters with extraordinary strength, compassion, and generosity. Many volunteers donated their time and talents to help with the cleanup, recovery, and rebuilding of communities devastated by the hurricanes and tropical storms.

To prepare for the 2005 hurricane season, I urge all our citizens to become aware of the dangers of hurricanes and tropical storms and to learn how to minimize their destructive effects. Our Nation's weather researchers and forecasters continue to improve the accuracy of hurricane warnings, enabling residents and visitors to prepare for storms. By working together, Federal, State, and local agencies, first responders, the news media, and private citizens can help save lives and diminish the damage caused by these natural disasters.

NOW, THEREFORE, I, GEORGE W. BUSH, President of the United States of America, by virtue of the authority vested in me by the Constitution and laws of the United States, do hereby proclaim May 15 through May 21, 2005, as National Hurricane Preparedness Week. I call upon government agencies, private organizations, schools, and the news media to share information about hurricane preparedness and response to help save lives and prevent property damage. I also call upon Americans living in hurricane-prone areas of our Nation to use this opportunity to learn more about protecting themselves against the effects of hurricanes and tropical storms.

IN WITNESS WHEREOF, I have hereunto set my hand this tenth day of May, in the year of our Lord two thousand five, and of the Independence of the United States of America the two hundred and twenty-ninth.

B

[FR Doc. 05-9736

Filed 5-12-05; 8:45 am]

Billing code 3195-01-P